DEPARTMENT OF HEALTH AND HUMAN SERVICES

National Institutes of Health

Center for Scientific Review; Amended Notice of Meeting

Notice is hereby given of a change in the meeting of the Center for Scientific Review Special Emphasis Panel, September 30, 2010, 8:30 a.m. to October 1, 2010, 5 p.m., National Institutes of Health, 6701 Rockledge Drive, Bethesda, MD 20892 which was published in the Federal Register on September 9, 2010, 75 FR 54896-54897.

The meeting will be one day only September 30, 2010. The meeting time and location remain the same. The meeting is closed to the public.

Dated: September 20, 2010.
Jennifer S. Spaeth,
Director, Office of Federal Advisory Committee Policy.

[FR Doc. 2010-23954 Filed 9-23-10; 8:45 am]

BILLING CODE 4140-01-P